DEPARTMENT OF JUSTICE

Notice of Lodging of Proposed Consent Decree under the Comprehensive Environmental Response, Compensation and Liability Act and Proposed Stipulated Judgment and Permanent Injunction Under the Resource Conservation and Recovery Act

On November 28, 2012, the Department of Justice lodged a proposed Consent Decree and Stipulated Judgment and Permanent Injunction with the United States District Court for the District of Utah in the lawsuit entitled United States v. Parish Chemical Company and Uintah Pharmaceutical Corporation, Civil Action No. 09-804.

This action involves the claim of the United States under Section 107(a) of the Comprehensive Environmental Response, Compensation and Liability Act (“CERCLA”), 42 U.S.C. 9607(a), for reimbursement of its unreimbursed response costs (“CERCLA Claim”) incurred in response to releases and/or threatened releases of hazardous substances at the Parish Chemical Company (“PCC”) chemical manufacturing facility located at 145 N. Geneva Road, Vineyard Utah (“PCC Facility”). This action also involves multiple claims of the United States under the Resource Conservation and Recovery Act, as amended, 42 U.S.C. 6901 et seq. (“RCRA”), to obtain injunctive relief and civil penalties (“RCRA Claims”) for multiple violations of RCRA at the PCC Facility. The Consent Decree provides for the entry of a judgment in the amount of $908,348.57 against the Defendants, and obligates the Defendants to transfer possession of the PCC facility into a trust to resolve the United States' CERCLA Claim. The Stipulated Judgment and Permanent Injunction provide for a $100,000 civil penalty to be adjudged against PCC, and the entry of a permanent injunction against PCC to resolve the United States' RCRA Claims.

The publication of this notice opens a period for public comment on the proposed Consent Decree and Stipulated Judgment and Permanent Injunction. Comments should be addressed to the Assistant Attorney General, Environment and Natural Resources Division, and should refer to United States versus Parish Chemical Company and Uintah Pharmaceutical Corporation, Civil Action No. 09-804., D.J. Ref. No. 90-11-2-1215/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree and Stipulated Judgment and Permanent Injunction may be examined and downloaded at this Justice Department Web site: http://www.usdoj.gov/enrd/Consent_Decrees.html. We will provide a paper copy of the proposed Consent Decree and Stipulated Judgment and Permanent Injunction upon written request and payment of reproduction costs. Please mail your request and payment to:

Consent Decree Library, U.S. DOJ—ENRD, P.O. Box 7611, Washington, DC 20044-7611.

Please enclose a check or money order for $13.75 (25 cents per page reproduction cost) payable to the United States Treasury.

Robert Brook,
Assistant Section Chief, Environmental Enforcement Section, Environment and Natural Resources Division.

[FR Doc. 2012-29265 Filed 12-4-12; 8:45 am]

BILLING CODE 4410-15-P